DEPARTMENT OF COMMERCE

Foreign-Trade Zones Board

[B-49-2021]

Foreign-Trade Zone 83—Huntsville, Alabama; Application for Reorganization Under Alternative Site Framework

An application has been submitted to the Foreign-Trade Zones (FTZ) Board by the Huntsville-Madison County Airport Authority, grantee of FTZ 83, requesting authority to reorganize the zone under the alternative site framework (ASF) adopted by the FTZ Board (15 CFR Sec. 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on June 29, 2021.

FTZ 83 was approved by the FTZ Board on February 24, 1983 (Board Order 209, 48 FR 9052, March 3, 1983) and expanded on October 30, 1989 (Board Order 447, 54 FR 46430, November 3, 1989) and July 1, 1992 (Board Order 585, 57 FR 30717, July 10, 1992).

The current zone includes the following sites: Site 1 (1,550 acres)—Huntsville International Airport and Industrial Complex, Glenn Hearn Boulevard, Huntsville; and, Site 2 (1,014 acres)—Mallard Creek Industrial Park, Highway 72 and Red Hat Road, Decatur.

The grantee's proposed service area under the ASF would be Cherokee, Colbert, Cullman, DeKalb, Franklin, Jackson, Lauderdale, Lawrence, Limestone, Madison, Marshall, Marion, Morgan and Winston Counties, Alabama, as described in the application. If approved, the grantee would be able to serve sites throughout the service area based on companies' needs for FTZ designation. The application indicates that the proposed service area is within and adjacent to the Huntsville U.S. Customs and Border Protection port of entry.

The applicant is requesting authority to reorganize its existing zone to include both existing sites as “magnet” sites. The ASF allows for the possible exemption of one magnet site from the “sunset” time limits that generally apply to sites under the ASF, and the applicant proposes that Site 1 be so exempted. No subzones/usage-driven sites are being requested at this time. The application would have no impact on FTZ 83's previously authorized subzones.

In accordance with the FTZ Board's regulations, Christopher Kemp of the FTZ Staff is designated examiner to evaluate and analyze the facts and information presented in the application and case record and to report findings and recommendations to the FTZ Board.

Public comment is invited from interested parties. Submissions shall be addressed to the FTZ Board's Executive Secretary and sent to: ftz@trade.gov. The closing period for their receipt is September 7, 2021. Rebuttal comments in response to material submitted during the foregoing period may be submitted during the subsequent 15-day period to September 20, 2021.

A copy of the application will be available for public inspection in the “Reading Room” section of the FTZ Board's website, which is accessible via www.trade.gov/ftz. For further information, contact Christopher Kemp at Christopher.Kemp@trade.gov.

Dated: June 29, 2021.
Andrew McGilvray,
Executive Secretary.

[FR Doc. 2021-14300 Filed 7-2-21; 8:45 am]

BILLING CODE 3510-DS-P